ENVIRONMENTAL PROTECTION AGENCY

40 CFR Part 63

[AD-FRL-6955-7]

RIN 2060-AF26

National Emission Standards for Hazardous Air Pollutants: Publicly Owned Treatment Works

AGENCY: Environmental Protection Agency (EPA).

ACTION: Final rule; corrections.

SUMMARY: On October 26, 1999, EPA promulgated the National Emission Standards for Hazardous Air Pollutants (NESHAP) for Publicly Owned Treatment Works (POTW) (64 FR 57572). This final rule corrects grammatical, typographic, formatting, and cross-reference errors.

Section 553 of the Administrative Procedure Act, 5 U.S.C. 553(b)(B), provides that, when an agency for good cause finds that notice and public procedure are impracticable, unnecessary, or contrary to the public interest, the agency may issue a rule without providing notice and an opportunity for public comment. We have determined that there is good cause for making today's rule final without prior proposal and opportunity for comment because the changes to the rule are minor technical corrections, are noncontroversial in nature, and do not substantively change the requirements of the POTW rule. Thus, notice and public procedure are unnecessary. We find that this constitutes good cause under 5 U.S.C. 553(b)(B).

Section 553(d)(3) allows an agency, upon finding good cause, to make a rule effective immediately. Because today's changes do not substantively change the requirements of the POTW rule, we find good cause to make these amendments effective immediately.

EFFECTIVE DATE: March 23, 2001.

ADDRESSES: Docket No. A-96-46 contains the supporting information for the POTW final rule and this action. The docket is located at the U.S. EPA in room M-1500, Waterside Mall (ground floor), 401 M Street SW., Washington, DC 20460, and may be inspected from 8:00 a.m. to 5:30 p.m., Monday through Friday, excluding legal holidays. A reasonable fee may be charged for copying.

FOR FURTHER INFORMATION CONTACT: For information concerning these final corrections, contact Mr. Robert Lucas, Waste and Chemical Processes Group, Emission Standards Division (MD-13), Office of Air Quality Planning and Standards, U.S. Environmental Protection Agency, Research Triangle Park, North Carolina 27711, telephone number: (919) 541-0884, facsimile number: (919) 541-0246, electronic mail address: lucas.bob@epa.gov.

SUPPLEMENTARY INFORMATION: Regulated entities. Categories and entities potentially affected by this action include:

Category | SICᵃ | NAICSᵇ | Regulated entities
Federal Government | 4952 | 22132 | Sewage treatment facilities, and federally owned treatment works.
State/local/tribal governments | 4952 | 22132 | Sewage treatment facilities, municipal wastewater treatment facilities, and publicly owned treatment works.
ᵃ Standard Industrial Classification
ᵇ North American Information Classification System

This table is not intended to be exhaustive, but rather provides a guide for readers regarding entities likely to be regulated by this action. This table lists the types of entities that we are now aware could potentially be regulated by this action. Other types of entities not listed in the table could also be regulated. To determine whether your facility, company, business, organization, etc., is regulated by this action, you should carefully examine the applicability criteria in § 63.1580 of the rule. If you have questions regarding the applicability of this action to a particular entity, consult the person listed in the preceding FOR FURTHER INFORMATION CONTACT section.

World Wide Web (WWW). The text of today's document will also be available on the WWW through the Technology Transfer Network (TTN). Following signature, a copy of this action will be posted on the TTN's policy and guidance page for newly proposed or promulgated rules http//www.epa.gov/ttn/oarpg. The TTN provides information and technology exchange in various areas of air pollution control. If more information regarding the TTN is needed, call the TTN HELP line at (919) 541-5384.

I. What Is the Background for These Corrections?

On October 26, 1999 (64 FR 57573), we published the National Emission Standards for Hazardous Air Pollutants: Publicly Owned Treatment Works final rule. Today's action consists of editorial, cross-reference, and clarifying corrections to the promulgated rule. These corrections will become effective immediately (without further rulemaking action) on March 23, 2001. We have determined that it is unnecessary to provide prior notice and opportunity to comment on these corrections.

As stated, we are correcting typographical, grammatical, and cross-reference errors in the promulgated rule with this action. For example, as promulgated, we incorrectly use the word “reconstructed” in the last sentence of § 63.1586(a) when referring to a defined term. The correct and intended term is “reconstruction,” and not “reconstructed,” which is not defined. For another example, in § 63.1589(a), we incorrectly cross reference performance standard provisions (i.e., § 63.1586(b)) in lieu of intended equipment standard provisions (i.e., § 63.1586(a)). We are correcting these errors with this action.

Other examples of corrections we are making consist of revising the rule to include greater cross-reference specificity to increase the clarity of the rule. For example, § 63.1589(a)(3), as promulgated, refers the reader to the provisions of § 63.1588(a) for instances where repair of a defect is delayed. For clarity and consistency of specificity within the rule, we are clarifying that such provisions are found in § 63.1588(a)(3). These cross-reference specificity amendments eliminate the need for the reader to look at all of paragraph (a) for the specified provisions.

II. What Are the Administrative Requirements for These Corrections?

Under Executive Order 12866 (58 FR 51735, October 4, 1993), this action is not a “significant regulatory action” and is therefore not subject to review by the Office of Management and Budget (OMB). Because the EPA has made a “good cause” finding that this action is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of the UMRA. This action also does not significantly or uniquely affect the communities of tribal governments, as specified by Executive Order 13084 (63 FR 27655, May 10, 1998). This action does not have substantial direct effects on the States, on the relationship between the national government and the States, as specified in Executive Order 13132 (64 FR 43255, August 10, 1999). This action also is not subject to Executive Order 13045 (62 FR 19885, April 23, 1997) because it is not economically significant.

Section 12(d) of the National Technology Transfer and Advancement Act (NTTAA) of 1995 (Public Law No. 104-113), directs EPA to use voluntary consensus standards in their regulatory and procurement activities unless to do so would be inconsistent with applicable law or otherwise impractical. Voluntary consensus standards are technical standards (e.g., materials specifications, test methods, sampling procedures, business practices) developed or adopted by one or more voluntary consensus bodies. The NTTAA directs EPA to provide Congress, through annual reports to OMB, with explanations when an agency does not use available and applicable voluntary consensus standards.

This final rule corrects grammatical, typographic, formatting, and cross-reference errors.

This correction action does not involve special consideration of environmental justice related issues as required by Executive Order 12898 (59 FR 7629, February 16, 1994). In issuing these corrections, the EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of these rule amendments in accordance with the “Attorney General's Supplemental Guidelines for the Evaluation of Risk and Avoidance of Unanticipated Takings” issued under the executive order. These rule amendments do not impose an information collection burden under the provisions of the Paperwork Reduction Act of 1995 (44 U.S.C. 3501 et seq.). The EPA's compliance with these statutes and Executive Orders for the underlying rule is discussed in the October 26, 1999 final POTW rule.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary or contrary to the public interest. This determination must be supported by a brief statement (5 U.S.C. 808(2)). As stated previously, the EPA has made such a good cause finding, including the reasons therefor, and established an effective date of March 23, 2001. The EPA will submit a report containing this rule and other required information to the U.S. Senate, the U.S. House of Representatives, and the Comptroller General of the United States prior to publication of the rule in the Federal Register. This action is not a “major rule” as defined by 5 U.S.C. 804(2).

List of Subjects in 40 CFR Part 63

Environmental protection, Administrative practice and procedure, Air pollution control, Hazardous substances, Intergovernmental relations, Reporting and recordkeeping requirements.

Dated: February 23, 2001.
Robert D. Brenner,
Acting Assistant Administrator for Air and Radiation.

For the reasons stated in the preamble, title 40, chapter I, part 63 of the Code of Federal Regulations is amended as follows:

PART 63—[AMENDED]

1. The authority citation for part 63 continues to read as follows:

Authority: 42 U.S.C. 7401 et seq.

Subpart VVV—[Amended]

2. Section 63.1586 is amended by revising the last sentence of paragraph (a) introductory text as follows:

§ 63.1586 What are the emission points and control requirements for a non-industrial POTW treatment plant?

* * * * *

(a) * * * Reconstruction is defined in § 63.1595.

* * * * *

3. Section 63.1589 is amended by:

a. Revising paragraph (a) introductory text;

b. Revising paragraph (a)(3);

c. Revising paragraph (b).

The revisions read as follows:

§ 63.1589 What records must I keep?

(a) To comply with the equipment standard specified in § 63.1586(a), you must prepare and maintain the records required in paragraphs (a)(1) through (4) of this section:

* * * * *

(3) In the event that repair of the defect is delayed, in accordance with the provisions of § 63.1588(a)(3), you must also record the reason for the delay and the date you expect to complete the repair.

* * * * *

(b) To comply with the performance standard specified in § 63.1586(b), you must prepare and maintain the records required in paragraphs (b)(1) through (3) of this section:

(1) A record of the methods and data used to determine your POTW's annual HAP emissions as determined in § 63.1588(c)(2);

(2) A record of the methods and data used to determine that your POTW meets the fraction emitted standard of 0.014 or less, as determined in § 63.1588(c)(3); and

(3) A record of the methods and data that demonstrates that your POTW is in continuous compliance with the requirements of § 63.1588(c)(4).

4. Section 63.1590 is amended by revising the last sentence of paragraph (b); and revising paragraph (c) as follows:

§ 63.1590 What reports must I submit?

* * * * *

(b) * * * After you have been issued a title V permit, and each time a notification of compliance status is required under this subpart, you must submit the notification of compliance status to the appropriate permitting authority, as described in paragraph (d) of this section, following completion of the relevant compliance demonstration activity specified in this subpart.

(c) You must comply with the delay of repair reporting required in § 63.1588(a)(3).

* * * * *

5. Section 63.1595 is amended by revising the definition for “Fraction emitted” as follows:

§ 63.1595 List of definitions.

* * * * *

Fraction emitted means the fraction of the mass of HAP entering the POTW wastewater treatment plant which is emitted prior to secondary treatment. The value is calculated using the following steps:

(1) Determine mass emissions from all equipment up to, but not including, secondary treatment for each HAP listed in Table 1 to subpart DD of this part;

(2) Sum the HAP emissions (ΣE);

(3) Sum the HAP mass loadings (ΣL) in the influent to the POTW wastewater treatment plant; and

(4) Calculate the fraction emitted (fe monthly) using fe monthly = ΣE/ΣL.

* * * * *

6. Table 1 to Subpart VVV is amended by revising entries “63.1(a)(1)” and “63.5(b)(3)” to read as follows:

Table 1 to Subpart VVV—Applicability of 40 CFR Part 63 General Provisions to Subpart VVV
General provisions reference | Applicable to subpart VVV | Explanation
* * * * * * *
§ 63.1(a)(1) | Yes | Terms defined in the Clean Air Act.
* * * * * * *
§ 63.5(b)(3) | Yes | No new major sources without Administrator approval.
* * * * * * *

[FR Doc. 01-7281 Filed 3-22-01; 8:45 am]

BILLING CODE 6560-50-U